DEPARTMENT OF THE INTERIOR

Fish and Wildlife Service

[Docket No. FWS-HQ-IA-2018-0014; FXIA16710900000-178-FF09A30000]

Endangered Species; Receipt of Permit Applications

AGENCY: Fish and Wildlife Service, Interior.

ACTION: Notice of receipt of permit applications.

SUMMARY: We, the U.S. Fish and Wildlife Service, invite the public to comment on applications to conduct certain activities with foreign endangered species. With some exceptions, the Endangered Species Act (ESA) prohibits activities with listed species unless Federal authorization is acquired that allows such activities. The ESA also requires that we invite public comment before issuing these permits.

DATES: We must receive comments by June 4, 2018.

ADDRESSES: Document availability: The applications, as well as any comments and other materials that we receive, will be available for public inspection online in Docket No. FWS-HQ-IA-2018-0014 at http://www.regulations.gov.

Submitting Comments: You may submit comments by one of the following methods:

• Federal eRulemaking Portal: http://www.regulations.gov. Follow the instructions for submitting comments on Docket No. FWS-HQ-IA-2018-0014.

• U.S. mail or hand-delivery: Public Comments Processing, Attn: Docket No. FWS-HQ-IA-2018-0014; U.S. Fish and Wildlife Service Headquarters, MS: BPHC; 5275 Leesburg Pike, Falls Church, VA 22041-3803.

When submitting comments, please indicate the name of the applicant and the PRT# at the beginning of your comment. We will post all comments on http://www.regulations.gov. This generally means that we will post any personal information you provide us (see SUPPLEMENTARY INFORMATION for more information).

FOR FURTHER INFORMATION CONTACT: Brenda Tapia, (703) 358-2104 (telephone); (703) 358-2281 (fax); DMAFR@fws.gov (email).

SUPPLEMENTARY INFORMATION:

I. Public Comment Procedures

A. How do I comment on submitted applications?

You may submit your comments and materials by one of the methods listed under Submitting Comments in the ADDRESSES section. We will not consider comments sent by email or fax, or to an address not in the ADDRESSES section.

Please make your requests or comments as specific as possible, confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above in ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so.

II. Background

Under section 10(a)(1)(A) of the Endangered Species Act of 1973, as amended (ESA; 16 U.S.C. 1531 et seq.), we invite public comment on these permit applications before final action is taken.

III. Permit Applications

We invite the public to comment on applications to conduct certain activities with endangered species. With some exceptions, the ESA prohibits activities with listed species unless Federal authorization is acquired that allows such activities.

Applicant: Safari West, Santa Rose, CA; PRT-27040C

In the Federal Register of 82 FR 35817, August 1, 2017, we published a notice inviting the public to comment on an application that we received from Safari West, Santa Rosa, CA for a captive-bred wildlife registration under 50 CFR 17.21(g). In that notice, two species were omitted in the notification to the public. We are inviting the public to comment on the following two species to be added to this applicant's existing registration: bontebok (Damaliscus pygargus pygargus) and red ruffed lemur (Varecia variegata) for the purpose to enhance species propagation or survival. This notification covers activities to be conducted by the applicant over a 5-year period.

Applicant: Ryan McDonald, Waxahachie, TX; PRT-82656A

The applicant requests renewal of a captive-bred wildlife registration under 50 CFR 17.21(g) for radiated tortoise (Astrochelys radiata), and Galapagos tortoise (Chelonoidis nigra) to enhance species propagation or survival. This notification covers activities to be conducted by the applicant over a 5-year period.

Applicant: Cornell University, Ithaca, NY; PRT-62281C

The applicant requests a permit to import dried blood samples from 30 captive-held Asian elephants (Elephas maximus) from Elephant Stay, Thailand, for scientific research. This notification is for a single import.

Multiple Trophies

The following applicants each request a permit to import sport-hunted trophies of a male bontebok (Damaliscus pygargus pygargus) culled from a captive herd maintained under the management program of the Republic of South Africa, for the purpose of enhancing the propagation or survival of the species.

Applicant: Steven Collins, McKinney, TX; PRT-69195C

Applicant: David Seeno, Concord, CA; PRT-72306C

Applicant: C. Tustin, Ridley Park, PA; PRT-66701C

Applicant: Tommie Fogle, Lampasas, TX; PRT-66547C

Applicant: Rudy Nix, Barksdale, TX; PRT-74969C

Applicant: Kevin Perry, Peyton, CO; PRT-74842C

IV. Next Steps

If the Service decides to issue permits to any of the applicants listed in this notice, we will publish a notice in the Federal Register. You may locate the Federal Register notice announcing the permit issuance date by searching in www.regulations.gov under the application number listed in this document (e.g., PRT-12345X).

VI. Authority

Endangered Species Act of 1973 (16 U.S.C. 1531 et seq.).

Brenda Tapia,
Program Analyst/Data Administrator, Branch of Permits, Division of Management Authority.

[FR Doc. 2018-09443 Filed 5-3-18; 8:45 am]

BILLING CODE 4333-15-P